DEPARTMENT OF ENERGY

Federal Energy Regulatory Commission

Combined Notice of Filings #1

Take notice that the Commission received the following electric corporate filings:

Docket Numbers: EC19-70-000.

Applicants: High Lonesome Mesa, LLC, High Lonesome Mesa Wind, LLC.

Description: Application for Authorization Under Section 203 of the Federal Power Act, et al. of High Lonesome Mesa, LLC, et al.

Filed Date: 3/25/19.

Accession Number: 20190325-5200.

Comments Due: 5 p.m. ET 4/15/19.

Docket Numbers: EC19-71-000.

Applicants: PPL Electric Utilities Corporation.

Description: Application for Authorization Under Section 203 of the Federal Power Act, et al. of PPL Electric Utilities Corporation.

Filed Date: 3/25/19.

Accession Number: 20190325-5203.

Comments Due: 5 p.m. ET 4/15/19.

Take notice that the Commission received the following exempt wholesale generator filings:

Docket Numbers: EG19-83-000.

Applicants: FirstLight CT Housatonic LLC.

Description: Notice of Self-Certification of Exempt Wholesale Generator Status of FirstLight CT Housatonic LLC.

Filed Date: 3/26/19.

Accession Number: 20190326-5161.

Comments Due: 5 p.m. ET 4/16/19.

Docket Numbers: EG19-84-000.

Applicants: FirstLight CT Hydro LLC.

Description: Notice of Self-Certification of Exempt Wholesale Generator Status of FirstLight CT Hydro LLC.

Filed Date: 3/26/19.

Accession Number: 20190326-5165.

Comments Due: 5 p.m. ET 4/16/19.

Docket Numbers: EG19-85-000.

Applicants: FirstLight MA Hydro LLC.

Description: Notice of Self-Certification of Exempt Wholesale Generator Status of FirstLight MA Hydro LLC.

Filed Date: 3/26/19.

Accession Number: 20190326-5166.

Comments Due: 5 p.m. ET 4/16/19.

Docket Numbers: EG19-86-000.

Applicants: Northfield Mountain LLC.

Description: Notice of Self-Certification of Exempt Wholesale Generator Status of Northfield Mountain LLC.

Filed Date: 3/26/19.

Accession Number: 20190326-5226.

Comments Due: 5 p.m. ET 4/16/19.

Take notice that the Commission received the following electric rate filings:

Docket Numbers: ER17-1568-003.

Applicants: Southwest Power Pool, Inc.

Description: Compliance filing: Updated Request for Deferral of Effective Date-Order No. 831 Compliance Filing to be effective N/A.

Filed Date: 3/26/19.

Accession Number: 20190326-5067.

Comments Due: 5 p.m. ET 4/2/19.

Docket Numbers: ER19-709-002.

Applicants: Entergy Louisiana, LLC.

Description: Tariff Amendment: Entergy OpCos Reactive Power Update to be effective 1/1/2019.

Filed Date: 3/26/19.

Accession Number: 20190326-5089.

Comments Due: 5 p.m. ET 4/16/19.

Docket Numbers: ER19-1417-000.

Applicants: GenOn Power Midwest, LP.

Description: § 205(d) Rate Filing: Notice of Succession and Revisions to MBR Tariff and Request for Waivers to be effective 3/11/2019.

Filed Date: 3/22/19.

Accession Number: 20190322-5112.

Comments Due: 5 p.m. ET 4/12/19.

Docket Numbers: ER19-1417-001.

Applicants: GenOn Power Midwest, LP.

Description: Tariff Amendment: Notice of Succession and Revisions to MBR Tariff and Request for Waivers to be effective 3/11/2019.

Filed Date: 3/22/19.

Accession Number: 20190322-5131.

Comments Due: 5 p.m. ET 4/12/19.

Docket Numbers: ER19-1434-000.

Applicants: PJM Interconnection, L.L.C.

Description: § 205(d) Rate Filing: First Revised WMPA No. 4869; Queue No. AD2-044/AC2-138 to be effective 2/22/2019.

Filed Date: 3/25/19.

Accession Number: 20190325-5166.

Comments Due: 5 p.m. ET 4/15/19.

Docket Numbers: ER19-1435-000.

Applicants: PJM Interconnection, L.L.C.

Description: § 205(d) Rate Filing: Original ICSA, SA No. 5310; Queue No. AB2-174 to be effective 2/22/2019.

Filed Date: 3/25/19.

Accession Number: 20190325-5170.

Comments Due: 5 p.m. ET 4/15/19.

Docket Numbers: ER19-1436-000.

Applicants: PJM Interconnection, L.L.C.

Description: § 205(d) Rate Filing: First Revised WMPA No. 4880; Queue No. AD2-021/AC2-137 to be effective 2/22/2019.

Filed Date: 3/25/19.

Accession Number: 20190325-5171.

Comments Due: 5 p.m. ET 4/15/19.

Docket Numbers: ER19-1437-000.

Applicants: PJM Interconnection, L.L.C.

Description: Tariff Cancellation: Notice of Cancellation of ISA SA No. 3904; Queue No. AA1-108 to be effective 4/8/2019.

Filed Date: 3/25/19.

Accession Number: 20190325-5172.

Comments Due: 5 p.m. ET 4/15/19.

Docket Numbers: ER19-1438-000.

Applicants: Pacific Gas and Electric Company.

Description: § 205(d) Rate Filing: 2nd Amendment to CDWR WPA for the Thermalito Restoration Project (SA 275) to be effective 3/27/2019.

Filed Date: 3/26/19.

Accession Number: 20190326-5010.

Comments Due: 5 p.m. ET 4/16/19.

Docket Numbers: ER19-1439-000.

Applicants: Midcontinent Independent System Operator, Inc.

Description: § 205(d) Rate Filing: 2019-03-26_SA 3288 Sugar Creek Wind One—Ameren Illinois GIA (J756) to be effective 3/12/2019.

Filed Date: 3/26/19.

Accession Number: 20190326-5090.

Comments Due: 5 p.m. ET 4/16/19.

Docket Numbers: ER19-1440-000.

Applicants: DTE Electric Company.

Description: § 205(d) Rate Filing: Update to Reactive Revenue to be effective 3/27/2019.

Filed Date: 3/26/19.

Accession Number: 20190326-5095.

Comments Due: 5 p.m. ET 4/16/19.

Docket Numbers: ER19-1441-000.

Applicants: Midcontinent Independent System Operator, Inc.

Description: § 205(d) Rate Filing: 2019-03-26_SA 3289 Sugar River Wind—ATC GIA (J584) to be effective 3/12/2019.

Filed Date: 3/26/19.

Accession Number: 20190326-5108.

Comments Due: 5 p.m. ET 4/16/19.

Docket Numbers: ER19-1442-000.

Applicants: Sage Solar I LLC.

Description: § 205(d) Rate Filing: Sage Solar I LLC Shared Facilities Agreement to be effective 5/1/2019.

Filed Date: 3/26/19.

Accession Number: 20190326-5199.

Comments Due: 5 p.m. ET 4/16/19.

Docket Numbers: ER19-1443-000.

Applicants: Sage Solar II LLC.

Description: § 205(d) Rate Filing: Sage Solar II LLC Shared Facilities Agreement to be effective 5/1/2019.

Filed Date: 3/26/19.

Accession Number: 20190326-5212.

Comments Due: 5 p.m. ET 4/16/19.

Docket Numbers: ER19-1444-000.

Applicants: Sage Solar III LLC.

Description: § 205(d) Rate Filing: Sage Solar III LLC Shared Facilities Agreement to be effective 5/1/2019.

Filed Date: 3/26/19.

Accession Number: 20190326-5224.

Comments Due: 5 p.m. ET 4/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2019.
Nathaniel J. Davis, Sr.,
Deputy Secretary.

[FR Doc. 2019-06225 Filed 3-29-19; 8:45 am]

BILLING CODE 6717-01-P